DEPARTMENT OF LABOR

Office of the Secretary

Submission for OMB Review; Comment Request

December 20, 2002.

The Department of Labor (DOL) has submitted the following public information collection request (ICR) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at ((202) 693-4158, or e-mail Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Request to be Selected as Payee.

OMB Number: 1215-0166.

Affected Public: Business or other-for-profit; individuals or households; and not-for-profit institutions.

Frequency: On occasion.

Number of Respondents: 2,000.

Number of Annual Responses: 2,000.

Estimated Time Per Response: 20 minutes.

Total Burden Hours: 667.

Total Annualzied Capital/Startup Costs: $0.

Total Annual Costs (operating/maintaining systems or purchasing services): $800.00.

Description: Benefits are payable by the Department of Labor to miners who are totally disabled due to pneumoconiosis and to certain survivors of a miner under the Federal Mine Safety and Health Act of 1977, as amended (30 U.S.C. 901). If a beneficiary is incapable of handling his affairs, the person or institution responsible for his care is required to apply to receive the benefits payment on the beneficiary's behalf. The CM-910 is used to obtain information about prospective representative payees to determine whether they are qualified to handle monetary benefits on behalf of the beneficiary. If this information were not collected, the Department would be unable to evaluate the applicant's ability to be a representative payee.

Ira L. Mills,
Departmental Clearance Officer.

[FR Doc. 03-424 Filed 1-8-03; 8:45 am]

BILLING CODE 4510-23-M